DEPARTMENT OF COMMERCE

Foreign-Trade Zones Board

[S-42-2021]

Approval of Subzone Status; Pepperl+Fuchs, Inc., Katy, Texas

On March 8, 2021, the Executive Secretary of the Foreign-Trade Zones (FTZ) Board docketed an application submitted by the Port of Houston Authority, grantee of FTZ 84, requesting subzone status subject to the existing activation limit of FTZ 84, on behalf of Pepperl+Fuchs, Inc., in Katy, Texas.

The application was processed in accordance with the FTZ Act and Regulations, including notice in the Federal Register inviting public comment (86 FR 14070-14071, March 12, 2021). The FTZ staff examiner reviewed the application and determined that it meets the criteria for approval.

Pursuant to the authority delegated to the FTZ Board Executive Secretary (15 CFR Sec. 400.36(f)), the application to establish Subzone 84AC was approved on May 27, 2021, subject to the FTZ Act and the Board's regulations, including Section 400.13, and further subject to FTZ 84's 2,000-acre activation limit.

Dated: May 27, 2021.
Andrew McGilvray,
Executive Secretary.

[FR Doc. 2021-11631 Filed 6-2-21; 8:45 am]

BILLING CODE 3510-DS-P